ENVIRONMENTAL PROTECTION AGENCY

40 CFR Part 170

[EPA-HQ-OPP-2017-0543; FRL-9972-10]

RINs 2070-AK40 and 2070-AK43

Pesticides; Agricultural Worker Protection Standard; Reconsideration of Several Requirements and Notice About Compliance Dates

AGENCY: Environmental Protection Agency (EPA).

ACTION: Notice of proposed rulemaking.

SUMMARY: EPA is providing notice to the public that it has initiated a rulemaking process to revise certain requirements in the Agricultural Worker Protection Standard. EPA expects to publish a Notice of Proposed Rulemaking in FY 2018 to solicit public input on proposed revisions to the WPS requirements for minimum age, designated representative, and application exclusion zone.

DATES: EPA is also announcing that the compliance dates in the revised WPS published on November 2, 2015 (80 FR 67496) (FRL-9931-81) remain in effect and that the Agency does not intend to extend them.

FOR FURTHER INFORMATION CONTACT: Kevin Keaney, Field and External Affairs Division (7506P), Office of Pesticide Programs, Environmental Protection Agency, 1200 Pennsylvania Ave. NW, Washington, DC 20460-0001; telephone number: (703) 305-5557; email address: keaney.kevin@epa.gov.

SUPPLEMENTARY INFORMATION:

I. General Information

A. Does this action apply to me?

You may be potentially affected by this action if you work in or employ persons working in crop production agriculture where pesticides are applied. The following list of North American Industrial Classification System (NAICS) codes is not intended to be exhaustive, but rather provides a guide to help readers determine whether this document applies to them. Potentially affected entities may include:

• Agricultural Establishments (NAICS code 111000).

• Nursery and Tree Production (NAICS code 111421).

• Timber Tract Operations (NAICS code 113110).

• Forest Nurseries and Gathering of Forest Products (NAICS code 113210).

• Farm Workers (NAICS codes 11511, 115112, and 115114).

• Pesticide Handling on Farms (NAICS code 115112).

• Farm Labor Contractors and Crew Leaders (NAICS code 115115).

• Pesticide Handling in Forestry (NAICS code 115310).

• Pesticide Manufacturers (NAICS code 325320).

• Farm Worker Support Organizations (NAICS codes 813311, 813312, and 813319).

• Farm Worker Labor Organizations (NAICS code 813930).

• Crop Advisors (NAICS codes 115112, 541690, 541712).

II. What action is the Agency taking?

A. Potential Changes to Several WPS Requirements

In accordance with Executive Order 13777, titled Enforcing the Regulatory Reform Agenda, EPA solicited public comments on regulations that may be appropriate for repeal, replacement or modification as part of the President's Regulatory Reform Agenda efforts. The comments received can be viewed at http://www.regulations.gov under docket EPA-HQ-OA-2017-0190. EPA received comments on the Agricultural Worker Protection Standard (WPS) requirements for minimum age, designated representative, and application exclusion zone (AEZ). These three topics were discussed at the November 2, 2017, meeting of the Office of Pesticide Program's Federal Advisory Committee, the Pesticide Program Dialogue Committee (PPDC). A transcript of the meeting will be posted when available on EPA's website at https://www.epa.gov/pesticide-advisory-committees-and-regulatory-partners/pesticide-program-dialogue-committee-meeting-5. After considering these comments, revisiting the record, and reviewing the applicable statutory authority, EPA has determined that further consideration of the WPS requirements for minimum age, designated representative, and AEZ is warranted through the rulemaking process. A brief summary of the existing WPS requirements for minimum age, designated representative, and the AEZ is provided below.

1. Minimum Age. The 2015 WPS established a minimum age of 18 years for pesticide handlers and for early-entry workers, with an exemption for owners of agricultural establishments and their immediate family members.

2. Designated Representative. The 2015 WPS required agricultural employers to provide pesticide application information and safety data sheets to a designated representative of a worker or handler under certain circumstances. This requirement is in addition to the requirement for agricultural employers to provide that information to medical personnel, workers or handlers requesting it.

3. Application Exclusion Zones (AEZs). For outdoor production on farms, nurseries and forests, the 2015 WPS rule established AEZ requirements to reduce the number of incidents where workers or other persons are exposed to pesticides during agricultural pesticide applications. The 2015 WPS requires agricultural employers to keep workers and other persons out of certain areas around the pesticide application equipment (i.e., AEZs) during ongoing pesticide applications, in addition to continuing the 1992 WPS requirement to keep workers and other persons out of the treated area. The 2015 WPS also requires pesticide applicators (handlers) to suspend a pesticide application if workers or other persons are in the AEZ.

EPA is providing notice to the public that the Agency has initiated a rulemaking process to reconsider the requirements in the 2015 revised WPS for minimum age at 40 CFR 170.309(c), 170.313(c) and 170.605(a); designated representative at 170.305 and 170.311(b)(9); and application exclusion zone at 170.305, 170.405 and 170.505(b). EPA expects to publish a Notice of Proposed Rulemaking in FY 2018 to solicit public input on the proposed revisions to the WPS.

B. WPS Compliance Dates

EPA is also announcing that the compliance dates in the revised WPS remain in effect and that the Agency does not intend to extend them. Therefore, compliance with the revised WPS requirements will be required as set forth in the November 2, 2015 (80 FR 67496) (FRL-9931-81) revised WPS at 40 CFR 170.2, 170.311, 170.401, 170.501 and 170.505. Compliance with most of the revised WPS requirements was required beginning January 2, 2017. Compliance will be required with two additional requirements starting January 2, 2018; specifically, the pesticide safety information display (poster) which will have to include the revised content, and pesticide handlers (applicators) will have to temporarily suspend applications if workers or other persons enter into the application exclusion zone during pesticide applications. EPA will work with States and Tribes to implement the revised WPS in 2018.

The only requirements in the revised WPS that will not be in effect as of January 2, 2018 are the requirements that the worker and handler pesticide safety training material cover the expanded content at 40 CFR 170.401(c)(3) and 170.501(c)(3). The 2015 revised WPS provided that compliance with the expanded pesticide safety content in these sections was not required until 180 days after EPA publishes in the Federal Register a notice of availability of certain training materials. While there are training materials available that meet the expanded content requirement, EPA has not yet published a Federal Register notice announcing their availability and does not plan to issue such a notice until the rulemaking process on the minimum age, designated representative and application exclusion zone requirements is complete. If any of those requirements change as a result of the rulemaking process, all of the training materials covering the expanded pesticide safety content (including videos, presentations and flip charts) would have to be changed. EPA is delaying the publication of the training materials availability notice to prevent extra work and costs to developers of the training materials and EPA reviewers. Therefore, pesticide safety training for workers and handlers may continue to be conducted using EPA-approved “old” materials (covering the topics in the August 21, 1992 WPS (57 FR 38102) (FRL-3774-6)) or EPA-approved “new” materials (covering the topics in the 2015 WPS) after January 2, 2018, and until the rulemaking process is complete. Training on the expanded pesticide safety content will not be required until 180 days after EPA publishes a Federal Register notice announcing the availability of training materials that cover the expanded content in 40 CFR 170.401(c)(3) and 170.501(c)(3).

Authority: 7 U.S.C. 136-136y.

Dated: December 13, 2017.
Charlotte Bertrand,
Acting Principal Deputy Assistant Administrator, Office of Chemical Safety and Pollution Prevention.

[FR Doc. 2017-27303 Filed 12-20-17; 8:45 am]

BILLING CODE 6560-50-P